DEPARTMENT OF THE TREASURY

Submission for OMB Review; Comment Request

June 1, 2010.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 8, 2010 to be assured of consideration.

Financial Management Service (FMS)

OMB Number: 1510-0019.

Type of Review: Revision of a currently approved collection.

Title: (Electronic Pre-Printed Information), Claim Against the United States for the Proceeds of a Government Check.

Form: FMS-1133.

Abstract: The FMS-1133 form is used to collect information needed to process an individual's claim for non-receipt of proceeds from a government check. Once the information is analyzed, a determination is made and a recommendation to the program agency to either settle or deny the claim.

Respondents: Individuals and Households.

Estimated Total Burden Hours: 11,278 hours.

Bureau Clearance Officer: Wesley Powe, Financial Management Service, 3700 East West Highway, Room 135, Hyattsville, MD 20782; (202) 874-7662.

OMB Reviewer: Shagufta Ahmed, Office of Management and Budget, New Executive Office Building, Room 10235, Washington, DC 20503; (202) 395-7873.

Celina Elphage,
Treasury PRA Clearance Officer.

[FR Doc. 2010-13673 Filed 6-7-10; 8:45 am]

BILLING CODE 4830-01-P